DEPARTMENT OF STATE

[Public Notice 10152]

Notice of Determinations; Culturally Significant Objects Imported for Exhibition Determinations: Exhibition of Paintings by Women Artists in Paris Between 1850 and 1900

SUMMARY: Notice is hereby given of the following determinations: I hereby determine that certain objects to be included in the traveling exhibition identified under the titles below, imported from abroad for temporary exhibition within the United States, are of cultural significance. The objects are imported pursuant to loan agreements with the foreign owners or custodians. I also determine that the exhibition or display of the exhibit objects at the Denver Art Museum, Denver, Colorado, under the title “Her Paris: Women Artists in the Age of Impressionism,” from on or about October 22, 2017, until on or about January 14, 2018; at the Speed Art Museum, Louisville, Kentucky, under the title “Women Artists in the Age of Impressionism,” from on or about February 17, 2018, until on or about May 13, 2018; at The Sterling and Francine Clark Art Institute, Williamstown, Massachusetts, under the title “Women Artists in Paris 1850-1900,” from on or about June 9, 2018, until on or about September 3, 2018; and at possible additional exhibitions or venues yet to be determined, is in the national interest.

FOR FURTHER INFORMATION CONTACT: For further information, including a list of the imported objects, contact Elliot Chiu in the Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257-1 of December 11, 2015). I have ordered that Public Notice of these determinations be published in the Federal Register.

Alyson Grunder,
Deputy Assistant Secretary for Policy, Bureau of Educational and Cultural Affairs, Department of State.

[FR Doc. 2017-21314 Filed 10-3-17; 8:45 am]

BILLING CODE 4710-05-P